DEPARTMENT OF HOMELAND SECURITY

Coast Guard

[USCG-2007-29070]

Collection of Information Under Review by Office of Management and Budget: OMB Control Number 1625-0108

AGENCY: Coast Guard, DHS.

ACTION: Thirty-day notice requesting comments.

SUMMARY: In compliance with the Paperwork Reduction Act of 1995, this request for comments announces that the U.S. Coast Guard is forwarding an Information Collection Request (ICR), abstracted below, to the Office of Information and Regulatory Affairs (OIRA) of the Office of Management and Budget (OMB) requesting an extension of their approval for the following collection of information: 1625-0108, Standard Numbering System for Undocumented Vessels. Our ICR describes the information we seek to collect from the public. Review and comments by OIRA ensure we only impose paperwork burdens commensurate with our performance of duties.

DATES: Please submit comments on or before February 11, 2008.

ADDRESSES: To make sure your comments and related material do not enter the Coast Guard docket [USCG-2007-29070] or are received by OIRA more than once, please submit them by only one of the following means:

(1) Electronic submission. (a) To Coast Guard docket at http://www.regulations.gov. (b) To OIRA by e-mail to: nlesser@omb.eop.gov.

(2) Mail or hand delivery. (a) To Docket Management Facility (M-30), U.S. Department of Transportation, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, to the attention of the Desk Officer for the Coast Guard.

(3) Fax. (a) To Docket Management Facility at 202-493-2251. (b) To OIRA at 202-395-6566. To ensure your comments are received in time, mark the fax to the attention of Mr. Nathan Lesser, Desk Officer for the Coast Guard.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

A copy of the complete ICR is available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523 or fax 202-475-3929, for questions on these documents. Contact Ms. Renee V. Wright, Program Manager, Docket Operations, 202-366-9826, for questions on the docket.

SUPPLEMENTARY INFORMATION: The Coast Guard invites comments on whether this information collection request should be granted based on it being necessary for the proper performance of Departmental functions. In particular, the Coast Guard would appreciate comments addressing: (1) The practical utility of the collection; (2) the accuracy of the estimated burden of the collection; (3) ways to enhance the quality, utility, and clarity of information subject to the collection; and (4) ways to minimize the burden of collection on respondents, including the use of automated collection techniques or other forms of information technology.

Comments to the Coast Guard or OIRA must contain the OMB Control Number of the ICR. Comments to the Coast Guard must contain the docket number [USCG 2007-29070]. For your comments to OIRA to be considered, it is best if OIRA receives them on or before February 11, 2008.

Public participation and request for comments: We encourage you to respond to this request by submitting comments and related materials. We will post all comments received, without change, to http://www.regulations.gov. They will include any personal information you provide. We have an agreement with DOT to use their Docket Management Facility. Please see the paragraph on DOT's “Privacy Act Policy” below.

Submitting comments: If you submit a comment, please include the docket number [USCG-2007-29070], indicate the specific section of the document to which each comment applies, providing a reason for each comment. We recommend you include your name, mailing address, an e-mail address, or other contact information in the body of your document so that we can contact you if we have questions regarding your submission. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

The Coast Guard and OIRA will consider all comments and material received during the comment period. We may change the documents supporting this collection of information or even the underlying requirements in view of them.

Viewing comments and documents: Go to http://www.regulations.gov to view documents mentioned in this notice as being available in the docket. Click on “Search for Dockets,” and enter the docket number (USCG-2007-29070) in the Docket ID box, and click enter. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://DocketsInfo.dot.gov.

Previous Request for Comments

This request provides a 30-day comment period required by OIRA. The Coast Guard has published the 60-day notice (72 FR 51826, September 11, 2007) required by 44 U.S.C. 3506(c)(2). That notice elicited no comments.

Information Collection Request

Title: Standard Numbering System (SNS) for Undocumented Vessels.

OMB Control Number: 1625-0108.

Type of Request: Extension of a currently approved collection.

Affected Public: Owners of all undocumented vessels propelled by machinery are required by Federal law to apply for a number from the issuing authority of the State in which they are to be principally operated. In addition, States may require other vessels, such as sailboats, canoes, and kayaks, to be numbered. Owners may include individuals or households, non-profit organizations, and small businesses (e.g., liveries offering recreational vessels for rental by the public) or other for-profit organizations.

Abstract: Paragraph (a) of 46 U.S.C. 12301 requires undocumented vessels equipped with propulsion machinery of any kind to be numbered in the State where they are principally operated. In 46 U.S.C. 12302(a), Congress authorized the Secretary to prescribe, by regulation, a SNS, directing approval of a State numbering system if it is consistent therewith. In DHS Delegation No. 0170.1 section 2 (92)(h), the Secretary has delegated his authority under 46 U.S.C. 12301 and 12302 to the Commandant of the Coast Guard. Regulations requiring the numbering of undocumented vessels are in 33 CFR part 173; those applicable to the States for approval of their systems are contained in 33 CFR part 174.

In order to have an approved state numbering system, a State must collect and report annually to the Coast Guard information on its numbered vessels (number, size, construction, etc.). We need this information for the following reasons: (1) To provide Federal, State, and local law enforcement personnel information for enforcement of boating laws and for theft/fraud investigations; (2) To increase officers' safety by assisting boarding officers in determining how best to approach a vessel suspected of illegal activity; (3) To publish annual Boating Statistics reports required by 46 U.S.C. 6102(b); and (4) To determine proper allocation of Federal funds to assist States in carrying out the National Recreational Boating Safety Program established by 46 U.S.C. chapter 131.

Burden Estimate: The estimated burden has increased from 15,507 hours to 286,458 hours a year.

Dated: December 21, 2007.
D.T. Glenn,
Rear Admiral, U.S. Coast Guard, Assistant Commandant for Command, Control, Communications, Computers and Information Technology.

[FR Doc. E8-212 Filed 1-9-08; 8:45 am]

BILLING CODE 4910-15-P